DEPARTMENT OF THE INTERIOR

Fish and Wildlife Service

[FWS-R1-ES-2009-N0071]; [10120-1113-0000-F5]

Endangered Wildlife and Plants; Permits

AGENCY: Fish and Wildlife Service, Interior.

ACTION: Notice of availability of applications for permits; request for comments.

SUMMARY: We, the U.S. Fish and Wildlife Service (Service), invite the public to comment on the following applications for permits to conduct certain activities with endangered species under the Endangered Species Act of 1973, as amended (Act), which requires that we invite public comment on these permit applications.

DATES: We must receive your written data or comments by May 22, 2009.

ADDRESSES: Program Manager, Endangered Species, Ecological Services, U.S. Fish and Wildlife Service, 911 NE. 11th Avenue, Portland, OR 97232-4181.

FOR FURTHER INFORMATION CONTACT: Grant Canterbury, Fish and Wildlife Biologist, at the above address or by telephone (503-231-2071) or fax (503-231-6243).

SUPPLEMENTARY INFORMATION: The following applicants have applied for a new scientific research permit or interstate commerce permit, or to amend an existing permit, to conduct certain activities with endangered species under section 10(a)(1)(A) of the Act (16 U.S.C. 1531 et seq.). We solicit review and comment from local, State, and Federal agencies and the public.

Permit No. TE-001822

Applicant: Willamette National Forest, Oregon.

The applicant requests an amendment to an existing scientific research permit to take (trap, mark, and release) the Oregon chub (Oregonichthys crameri) in conjunction with research in the State of Oregon, for the purpose of enhancing its survival. This permit currently covers take (harass by survey, angling, capture, handle, mark, measure, translocate, and release) of the bull trout (Salvelinus confluentus).

Permit No. TE-210255

Applicant: Montana Department of Fish, Wildlife, and Parks.

The applicant requests a new scientific research permit to take (capture, handle, measure, and release) the Kootenai River population of the white sturgeon (Acipenser transmontanus) in conjunction with research in the State of Montana, for the purpose of enhancing its survival.

Permit No. TE-096741

Applicant: Pacific Naval Facilities Engineering Command, Hawaii.

The applicant requests an amendment to an existing scientific research permit to take (survey, collect eggs or larvae, rear in captivity, photograph, release, and collect voucher specimens) the Hawaiian picture-wing flies Drosophila aglaia, D. hemipeza, D. montgomeryi, D. obatai, D. substenoptera, D. tarphytrichia, and D. musaphilia in conjunction with research on the islands of Oahu and Kauai, Hawaii, for the purpose of enhancing their survival. This permit currently covers removal and reduction to possession of Abutilon menziesii (ko'oloa'ula), Abutilon sandwicense (no common name), Achyranthes splendens var. rotundata (round-leaved chaff flower), Alectryon macrococcus var. micrococcus (mahoe), Bonamia menziesii (no common name), Chamaesyce kuwaleana (akoko), Chamaesyce skottsbergii var. kalaeloana ('Ewa Plains 'akoko), Cyperus trachysanthos (puukaa), Flueggea neowawraea (mehamehame), Hedyotis parvula (no common name), Lepidium arbuscula (anaunau), Lipochaeta lobata var. leptophylla (nehe), Lipochaeta tenuifolia (nehe), Lobelia niihauensis (no common name), Marsilea villosa (ihi'ihi), Melicope pallida (alani), Melicope saint-johnii (alani), Neraudia angulata (no common name), Nototrichium humile (kului), Schiedea hookeri (no common name), Tetramolopium filiforme (no common name), Tetramolopium lepidotum ssp. lepidotum (no common name), and Viola chamissoniana ssp. chamissoniana (pamakani), for which we originally published a notice in the Federal Register on January 7, 2005 (70 FR 1456).

Permit No. TE-068803

Applicant: Jerry Lynn Kinser, Conroe, Texas.

The applicant requests a permit to purchase, in interstate commerce, two male captive bred Hawaiian (=nene) geese (Branta [=Nesochen] sandvicensis) for the purpose of enhancing their propagation and survival. This notification covers activities conducted by the applicant over the next 5 years.

Permit No. TE-212061

Applicant: Paul C. Hammond, Philomath, Oregon.

The applicant requests a new scientific research permit to take (capture, handle, and release) the Fender's blue butterfly (Icaricia icarioides fenderi) in conjunction with research in the State of Oregon, for the purpose of enhancing its survival.

Public Comments

Please refer to the permit number for the application when submitting comments.

We solicit public review and comment on these recovery and interstate commerce permit applications. Before including your address, phone number, e-mail address, or other personal identifying information in your comment, you should be aware that your entire comment—including your personal identifying information—may be made publicly available at any time. While you can ask us in your comment to withhold your personal identifying information from public review, we cannot guarantee that we will be able to do so.

Comments and materials we receive will be available for public inspection, by appointment, during normal business hours at the above address.

Dated: April 13, 2009.
David J. Wesley,
Regional Director, Region 1, U.S. Fish and Wildlife Service.

[FR Doc. E9-9154 Filed 4-21-09; 8:45 am]

BILLING CODE 4310-55-P